DEPARTMENT OF ENERGY

Federal Energy Regulatory Commission

Combined Notice of Filings #1

October 1, 2010.

Take notice that the Commission received the following electric corporate filings:

Docket Numbers: EC10-105-000.

Applicants: Exelon Corporation, Exelon Generation Company, LLC, Exelon Ventures Co, LLC.

Description: Joint Application for Approval Under Section 203 of the Federal Power Act and Request for Expedited Action of Exelon Corporation, et. al.

Filed Date: 09/30/2010.

Accession Number: 20100930-5387.

Comment Date: 5 p.m. Eastern Time on Thursday, October 21, 2010.

Take notice that the Commission received the following electric rate filings:

Docket Numbers: ER99-1757-017.

Applicants: The Empire District Electric Company.

Description: Notice of Change in Status of The Empire District Electric Company.

Filed Date: 09/30/2010.

Accession Number: 20100930-5393.

Comment Date: 5 p.m. Eastern Time on Thursday, October 21, 2010.

Docket Numbers: ER10-895-006.

Applicants: The Detroit Edison Company.

Description: Duke Edison Company submits amendment to request for delay in effectiveness of the notice of cancellation.

Filed Date: 09/30/2010.

Accession Number: 20100930-0212.

Comment Date: 5 p.m. Eastern Time on Thursday, October 21, 2010.

Docket Numbers: ER10-2214-001.

Applicants: Zion Energy LLC.

Description: Zion Energy LLC submits tariff filing per 35.17(b): Unopposed Motion to Hold Proceedings in Abeyance to be effective 12/31/9998.

Filed Date: 09/30/2010.

Accession Number: 20100930-5479.

Comment Date: 5 p.m. Eastern Time on Thursday, October 7, 2010.

Docket Numbers: ER10-2541-001.

Applicants: Maple Analytics, LLC.

Description: Maple Analytics, LLC submits tariff filing per 35: Maple Analytics, LLC Compliance Filing to be effective 10/8/2010.

Filed Date: 09/24/2010.

Accession Number: 20100924-5208.

Comment Date: 5 p.m. Eastern Time on Friday, October 15, 2010.

Docket Numbers: ER10-3283-000.

Applicants: Liberty Electric Power, LLC.

Description: FortisOntario Inc submits its notice of cancellation of its FERC Electric Tariff, Original Volume 1 et al.

Filed Date: 09/30/2010.

Accession Number: 20100930-0211.

Comment Date: 5 p.m. Eastern Time on Thursday, October 21, 2010.

Docket Numbers: ER10-3284-000.

Applicants: Vermont Electric Power Company.

Description: Vermont Electric Power Company submits First Revised Sheet No 2 et al to Original Rate Schedule No. 248, effective 11/29/10.

Filed Date: 09/30/2010.

Accession Number: 20100930-0210.

Comment Date: 5 p.m. Eastern Time on Thursday, October 21, 2010.

Docket Numbers: ER10-3294-000.

Applicants: MidAmerican Energy Company.

Description: MidAmerican Energy Company submits tariff filing per 35.12: Services Tariff-Baseline Filing to be effective 9/30/2010.

Filed Date: 09/30/2010.

Accession Number: 20100930-5368.

Comment Date: 5 p.m. Eastern Time on Thursday, October 21, 2010.

Docket Numbers: ER10-3295-000.

Applicants: Sierra Pacific Power Company.

Description: Sierra Pacific Power Company submits tariff filing per 35: Concurrence-NV Energy, Inc. Operating Companies Open Access Transmission Tariff to be effective 9/30/2010.

Filed Date: 09/30/2010.

Accession Number: 20100930-5373.

Comment Date: 5 p.m. Eastern Time on Thursday, October 21, 2010.

Docket Numbers: ER10-3296-000.

Applicants: Rockpile Energy LP.

Description: Rockpile Energy LP submits tariff filing per 35.12: Rockpile Energy LP, FERC Electric MBR Tariff No. 1 to be effective 9/30/2010.

Filed Date: 09/30/2010.

Accession Number: 20100930-5379.

Comment Date: 5 p.m. Eastern Time on Thursday, October 21, 2010.

Docket Numbers: ER10-3297-000.

Applicants: Powerex Corporation.

Description: Powerex Corporation submits tariff filing per 35.12: Powerex Corp. FERC Rate Schedule No. 1 Baseline to be effective 9/30/2010.

Filed Date: 09/30/2010.

Accession Number: 20100930-5383.

Comment Date: 5 p.m. Eastern Time on Thursday, October 21, 2010.

Docket Numbers: ER10-3298-000.

Applicants: Powerex Corporation.

Description: Powerex Corporation submits tariff filing per 35.12: Powerex Corp. FERC Rate Schedule No. 5 Baseline to be effective 9/30/2010.

Filed Date: 09/30/2010.

Accession Number: 20100930-5386.

Comment Date: 5 p.m. Eastern Time on Thursday, October 21, 2010.

Docket Numbers: ER10-3299-000.

Applicants: New Athens Generating Company, LLC.

Applicants: New Athens Generating Company, LLC.

Description: New Athens Generating Company, LLC submits tariff filing per 35.12: FERC Electric Tariff to be effective 9/30/2010.

Filed Date: 09/30/2010.

Accession Number: 20100930-5389.

Comment Date: 5 p.m. Eastern Time on Thursday, October 21, 2010.

Docket Numbers: ER10-3300-000.

Applicants: La Paloma Generating Company, LLC.

Description: La Paloma Generating Company, LLC submits tariff filing per 35.12: La Paloma Generating Company, LLC FERC Electric Rate Schedule No.1 Baseline to be effective 9/30/2010.

Filed Date: 09/30/2010.

Accession Number: 20100930-5390

Comment Date: 5 p.m. Eastern Time on Thursday, October 21, 2010

Docket Numbers: ER10-3301-000.

Applicants: GWF Energy LLC.

Description: GWF Energy LLC submits tariff filing per 35.12: GWF Energy LLC FERC Electric Rate Tariff Baseline to be effective 9/30/2010.

Filed Date: 09/30/2010.

Accession Number: 20100930-5391.

Comment Date: 5 p.m. Eastern Time on Thursday, October 21, 2010.

Docket Numbers: ER10-3302-000.

Applicants: Stuyvesant Energy LLC.

Description: Stuyvesant Energy LLC submits tariff filing per 35.12: Stuyvesant Energy LLC FERC Electric Rate Schedule No. 1 Baseline to be effective 9/30/2010.

Filed Date: 09/30/2010.

Accession Number: 20100930-5392.

Comment Date: 5 p.m. Eastern Time on Thursday, October 21, 2010.

Docket Numbers: ER10-3303-000.

Applicants: Nevada Power Company.

Description: Nevada Power Company submits tariff filing per 35: Baseline-WestConnect Pnt-To-Pnt Regional Trans Srv Experiment Tariff to be effective 9/30/2010.

Filed Date: 09/30/2010.

Accession Number: 20100930-5399.

Comment Date: 5 p.m. Eastern Time on Thursday, October 21, 2010.

Docket Numbers: ER10-3304-000.

Applicants: Black Hills/Colorado Electric Utility Company, LP.

Description: Black Hills/Colorado Electric Utility Company, LP submits tariff filing per 35.12: Baseline OATT of Black Hills/Colorado Electric Utility Company, LP to be effective 9/30/2010.

Filed Date: 09/30/2010.

Accession Number: 20100930-5401.

Comment Date: 5 p.m. Eastern Time on Thursday, October 21, 2010.

Docket Numbers: ER10-3305-000.

Applicants: Electric Energy, Inc.

Description: Electric Energy, Inc. submits tariff filing per 35.12: Baseline Filing to be effective 9/30/2010.

Filed Date: 09/30/2010.

Accession Number: 20100930-5403.

Comment Date: 5 p.m. Eastern Time on Thursday, October 21, 2010.

Docket Numbers: ER10-3306-000.

Applicants: SU FERC, L.L.C.

Description: SU FERC, L.L.C. submits tariff filing per 35.15: Cancellation to be effective 10/1/2010.

Filed Date: 09/30/2010.

Accession Number: 20100930-5411.

Comment Date: 5 p.m. Eastern Time on Thursday, October 21, 2010.

Docket Numbers: ER10-3307-000.

Applicants: NRG Energy Center Dover LLC.

Description: NRG Energy Center Dover LLC submits tariff filing per 35.12: NRG Energy Center Dover Reactive Supply Service to be effective 9/30/2010.

Filed Date: 09/30/2010.

Accession Number: 20100930-5416.

Comment Date: 5 p.m. Eastern Time on Thursday, October 21, 2010.

Docket Numbers: ER10-3308-000.

Applicants: Criterion Power Partners, LLC.

Description: Criterion Power Partners, LLC submits tariff filing per 35.12: Criterion Power Partners, LLC Market-Based Rate Tariff to be effective 9/30/2010.

Filed Date: 09/30/2010.

Accession Number: 20100930-5450.

Comment Date: 5 p.m. Eastern Time on Thursday, October 21, 2010.

Docket Numbers: ER10-3309-000.

Applicants: Consolidated Edison Company of New York.

Description: Consolidated Edison Company of New York, Inc. submits tariff filing per 35.13(a)(2)(iii: Amendments to PASNY and EDDS Tariffs to be effective 10/1/2010.

Filed Date: 09/30/2010.

Accession Number: 20100930-5453.

Comment Date: 5 p.m. Eastern Time on Thursday, October 21, 2010.

Docket Numbers: ER10-3310-000.

Applicants: New Harquahala Generating Company, LLC.

Description: New Harquahala Generating Company, LLC submits tariff filing per 35.12: New Harquahala FERC Electric Tariff to be effective 9/30/2010.

Filed Date: 09/30/2010.

Accession Number: 20100930-5468.

Comment Date: 5 p.m. Eastern Time on Thursday, October 21, 2010.

Docket Numbers: ER10-3311-000.

Applicants: BJ Energy, LLC.

Description: BJ Energy, LLC submits tariff filing per 35.12: BJ Energy, LLC, FERC Electric MBR Tariff No. 1 to be effective 9/30/2010.

Filed Date: 09/30/2010.

Accession Number: 20100930-5476.

Comment Date: 5 p.m. Eastern Time on Thursday, October 21, 2010.

Docket Numbers: ER10-3312-000.

Applicants: Pure Energy Inc.

Description: Pure Energy Inc submits tariff filing per 35.12: Pure Energy, LLC to be effective 9/30/2010.

Filed Date: 09/30/2010.

Accession Number: 20100930-5477.

Comment Date: 5 p.m. Eastern Time on Thursday, October 21, 2010.

Docket Numbers: ER10-3313-000.

Applicants: PJM Interconnection, L.L.C.

Description: PJM Interconnection, L.L.C. submits tariff filing per 35.13(a)(2)(iii) PJM Submittal of ISA No. 2641 and CSA Nos. 2642, 2643 with AES New Creek to be effective 9/17/2010.

Filed Date: 09/30/2010.

Accession Number: 20100930-5478.

Comment Date: 5 p.m. Eastern Time on Thursday, October 21, 2010.

Docket Numbers: ER10-3314-000.

Applicants: West Oaks Energy, LLC.

Description: West Oaks Energy, LLC submits tariff filing per 35.12: West Oaks Energy, LLC, FERC Electric MBR Tariff No. 1 to be effective 9/30/2010.

Filed Date: 09/30/2010.

Accession Number: 20100930-5480.

Comment Date: 5 p.m. Eastern Time on Thursday, October 21, 2010.

Docket Numbers: ER10-3315-000.

Applicants: Indeck-Oswego Limited Partnership.

Description: Indeck-Oswego Limited Partnership submits tariff filing per 35.12: Indeck-Oswego, Limited Partnership, FERC Electric MBR Tariff No. 1 to be effective 9/30/2010.

Filed Date: 09/30/2010.

Accession Number: 20100930-5481.

Comment Date: 5 p.m. Eastern Time on Thursday, October 21, 2010.

Docket Numbers: ER10-3316-000.

Applicants: Indeck Energy Services of Silver Springs.

Description: Indeck Energy Services of Silver Springs Inc. submits tariff filing per 35.12: Indeck Energy Services of Silver Springs, Inc., FERC Electric MBR Tariff No. 1 to be effective 9/30/2010.

Filed Date: 09/30/2010.

Accession Number: 20100930-5482.

Comment Date: 5 p.m. Eastern Time on Thursday, October 21, 2010.

Docket Numbers: ER10-3317-000.

Applicants: Nevada Power Company.

Description: Nevada Power Company submits tariff filing per 35.12: ON Line Transmission Use and Capacity Agreement to be effective 11/19/2010.

Filed Date: 09/30/2010.

Accession Number: 20100930-5485.

Comment Date: 5 p.m. Eastern Time on Friday, October 15, 2010.

Docket Numbers: ER10-3318-000.

Applicants: Silverado Energy LP.

Description: Silverado Energy LP submits tariff filing per 35.12: Silverado Energy LP, FERC Electric MBR Tariff No. 1 to be effective 9/30/2010.

Filed Date: 09/30/2010.

Accession Number: 20100930-5488.

Comment Date: 5 p.m. Eastern Time on Thursday, October 21, 2010.

Docket Numbers: ER10-3319-000.

Applicants: Astoria Energy II LLC.

Description: Astoria Energy II LLC submits tariff filing per 35.12: Astoria Energy II LLC FERC Electric Tariff No. 1 to be effective 11/30/2010.

Filed Date: 09/30/2010.

Accession Number: 20100930-5490.

Comment Date: 5 p.m. Eastern Time on Thursday, October 21, 2010.

Docket Numbers: ER10-3320-000.

Applicants: MAG Energy Solutions Inc.

Description: MAG Energy Solutions Inc. submits tariff filing per 35.12: MAG Energy Solutions, Inc., FERC Electric MBR Tariff No. 1 to be effective 9/30/2010.

Filed Date: 09/30/2010.

Accession Number: 20100930-5492.

Comment Date: 5 p.m. Eastern Time on Thursday, October 21, 2010.

Docket Numbers: ER10-3321-000.

Applicants: Red Wolf Energy Trading.

Description: Red Wolf Energy Trading submits tariff filing per 35.12: Red Wolf Energy Trading, LLC, FERC Electric MBR Tariff No. 1 to be effective 9/30/2010.

Filed Date: 09/30/2010.

Accession Number: 20100930-5495.

Comment Date: 5 p.m. Eastern Time on Thursday, October 21, 2010.

Docket Numbers: ER10-3322-000.

Applicants: Black Hills Power, Inc.

Description: Black Hills Power, Inc. submits tariff filing per 35.12: Baseline OATT of Black Hills Power, Inc. to be effective 9/30/2010.

Filed Date: 09/30/2010.

Accession Number: 20100930-5496.

Comment Date: 5 p.m. Eastern Time on Thursday, October 21, 2010.

Docket Numbers: ER10-3323-000.

Applicants: Indeck-Olean Limited Partnership.

Description: Indeck-Olean Limited Partnership submits tariff filing per 35.12: Indeck-Olean, Limited Partnership, FERC Electric MBR Tariff No. 1 to be effective 9/30/2010.

Filed Date: 09/30/2010.

Accession Number: 20100930-5497.

Comment Date: 5 p.m. Eastern Time on Thursday, October 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25564 Filed 10-8-10; 8:45 am]

BILLING CODE 6717-01-P